DEPARTMENT OF HEALTH AND HUMAN SERVICES

National Institutes of Health

National Institute of Allergy and Infectious Diseases; Amended Notice of Meeting

Notice is hereby given of a change in the meeting of the National Institute of Allergy and Infectious Diseases Special Emphasis Panel, May 15, 2007, 1 p.m. to May 15, 2007, 4 p.m. National Institutes of Health, Rockledge 6700, 6700B Rockledge Drive, Room 3258, Bethesda, MD 20817 which was published in the Federal Register on April 18, 2007, 72 FR 74, page 19546.

The meeting of the Special Emphasis Panel ZAI1 MMT M (S1), Tuberculosis Epidemiology, will be held on June 5, 2007, instead of May 15, 2007, at 1 p.m. and will end at 4 p.m. The meeting is closed to the public.

Dated: May 16, 2007.
Jennifer Spaeth,
Director, Office of Special Advisory Committee Policy.

[FR Doc. 07-2539 Filed 5-21-07; 8:45 am]

BILLING CODE 4140-01-M